DEPARTMENT OF COMMERCE

International Trade Administration

[A-557-810, A-570-859]

Notice of Postponement of Final Antidumping Duty Determinations: Steel Wire Rope From Malaysia and the People's Republic of China

AGENCY: Import Administration, International Trade Administration, Department of Commerce.

EFFECTIVE DATE: October 27, 2000.

FOR FURTHER INFORMATION CONTACT: James Kemp or Tracy Levstik, AD/CVD Enforcement, Office 5, Group II, Import Administration, International Trade Administration, U.S. Department of Commerce, 14th Street and Constitution Avenue NW, Washington, DC 20230; telephone (202) 482-1276 and (202) 482-2815, respectively.

Postponement of Final Determinations

The Department of Commerce (the Department) is postponing the final determinations in the antidumping duty investigations of steel wire rope from Malaysia and the People's Republic of China (PRC).

On March 17, 2000, the Department initiated antidumping investigations of steel wire rope from India, Malaysia, the PRC, and Thailand.¹ See Initiation of Antidumping Duty Investigations: Steel Wire Rope from India, Malaysia, the People's Republic of China, and Thailand, 65 FR 16173 (March 27, 2000). On September 25, 2000, we issued the preliminary determinations of these investigations. See Notice of Preliminary Determinations of Sales at Less Than Fair Value: Steel Wire Rope from India and the People's Republic of China; Notice of Preliminary Determination of Sales at Not Less Than Fair Value: Steel Wire Rope from Malaysia, 65 FR 58736 (October 2, 2000). The notice stated that the Department would issue its final determinations for the Malaysian and PRC cases no later than 75 days after the date of the preliminary determinations. The notice also stated that we extended the deadline for issuance of the final determination in the Indian case to no later than 135 days after the date of publication of the preliminary determination.

¹ The International Trade Commission issued a negative preliminary determination in the case involving Thailand, on April 20, 2000. Therefore, that case was terminated.

On September 27, 2000, the Committee of Domestic Steel Wire Rope and Specialty Cable Manufacturers (the petitioners) requested that the Department postpone the issuance of the final determination in the investigation of steel wire rope from Malaysia. On October 4, 2000, Fasten Group Import and Export Co., Ltd. (Fasten), a respondent in the PRC case, accounting for a significant proportion of exports of the merchandise subject to the investigation, requested that the Department postpone the issuance of the final determination in the investigation of steel wire rope from the PRC. Fasten also requested an extension to the imposition of provisional measures.² The petitioners' and Fasten's requests for postponement were timely, and the Department finds no compelling reason to deny them.

² It was unnecessary to extend the provisional measures for the Malaysian case because Kiswire received a de minimis margin at the preliminary determination, and, therefore, liquidation has not been suspended for subject merchandise from Malaysia.

Therefore, in accordance with section 735(a)(2) of the Tariff Act of 1930, as amended, we are postponing the deadline for issuing these determinations until February 14, 2001, which is 135 days after the date of the publication of the preliminary determinations.

Dated: October 23, 2000.
Troy H. Cribb,
Acting Assistant Secretary for Import Administration.

[FR Doc. 00-27686 Filed 10-26-00; 8:45 am]

BILLING CODE 3510-DS-P